DEPARTMENT OF ENERGY

Secretary of Energy Advisory Board

AGENCY: Department of Energy.

ACTION: Notice of open teleconference meeting.

SUMMARY: This notice announces a open teleconference meeting of the Secretary of Energy Advisory Board. The Federal Advisory Committee Act (Pub. L. 92-463, 86 Stat. 770), requires that agencies publish these notices in the Federal Register to allow for public participation. The purpose of the teleconference is to discuss the final findings and recommendations of the Secretary of Energy Advisory Board's Task Force on DOE Nonproliferation Programs in Russia, a subcommittee of the Secretary of Energy Advisory Board. Note: Copies of the draft final report of the Task Force on DOE Nonproliferation Programs in Russia may be obtained beginning January 10, 2001 from the following internet address http://www.hr.doe.gov/seab/ or by contacting the Office of the Secretary of Energy Advisory Board at (202) 586-7092. Name: Secretary of Energy Advisory Board

DATES: Thursday, January 18, 2001, 10 AM-11:30 PM, Eastern Standard Time.

ADDRESSES: Participants may call the Office of the Secretary of Energy Advisory Board at (202) 586-7092 to reserve a teleconference line and receive a call-in number. Public participation is welcomed. However, the number of teleconference lines are limited and are available on a first come basis.

FOR FURTHER INFORMATION CONTACT: Mary Louise Wagner, Executive Director, Secretary of Energy Advisory Board (AB-1), U.S. Department of Energy, 1000 Independence Avenue, SW, Washington, DC 20585, (202) 586-7092 or (202) 586-6279 (fax).

SUPPLEMENTARY INFORMATION: The purpose of the Secretary of Energy Advisory Board (The Board) is to provide the Secretary of Energy with essential independent advice and recommendations on issues of national importance. The Board and its subcommittees provide timely, balanced, and authoritative advice to the Secretary of Energy on the Department's management reforms, research, development, and technology activities, energy and national security responsibilities, environmental cleanup activities, and economic issues relating to energy. The Task Force on DOE Nonproliferation Programs in Russia, a subcommittee of the Secretary of Energy Advisory Board, was formed to appraise and provide recommendations to the Board on the policy priorities established by the Department in its cooperative nonproliferation and nuclear safety programs with Russia; to identify crucial program areas that may not have been addressed in the past; and to assess the performance of DOE's programs in achieving national security and nonproliferation missions. The Task Force was also tasked to assess the performance of DOE's programs in achieving its national security and nonproliferation missions, and provide policy recommendations on how the Department can be most effective in supporting U.S. national security interests.

Tentative Agenda

Thursday, January 18, 2001

10:00 AM-10:10 AM Welcome & Opening Remarks—Mr. Andrew Athy, Chairman of the Secretary of Energy Advisory Board

10:10 PM-10:30 PM Overview of the Task Force on DOE Nonproliferation Programs in Russia's Final Findings and Recommendations

10:30 PM-11:00 PM Public Comment Period

11:00 PM-11:30 PM Board Review & Comment and Action—Mr. Andrew Athy, Chairman of the Secretary of Energy Advisory Board

11:30 PM Adjourn

This tentative agenda is subject to change.

Public Participation

In keeping with procedures, members of the public are welcome to observe the business of the Secretary of Energy Advisory Board and submit written comments or comment during the scheduled public comment period. The Chairman of the Board is empowered to conduct the meeting in a fashion that will, in the Chairman's judgment, facilitate the orderly conduct of business. During its open teleconference meeting, the Board welcomes public comment. Members of the public will be heard in the order in which they sign up at the beginning of the meeting. The Board will make every effort to hear the views of all interested parties. Written comments should be submitted no later than January 16, 2001 to Mary Louise Wagner, Executive Director, Secretary of Energy Advisory Board, AB-1, US Department of Energy, 1000 Independence Avenue, SW, Washington, DC 20585.

Minutes

A copy of the minutes and a transcript of the open teleconference meeting will be made available for public review and copying approximately 30 days following the meeting at the Freedom of Information Public Reading Room, 1E-190 Forrestal Building, 1000 Independence Avenue, SW, Washington, DC, between 9 A.M. and 4 P.M., Monday through Friday except Federal holidays. Further information on the Secretary of Energy Advisory Board and its subcommittees may be found at the Board's web site, located at http://www.hr.doe.gov/seab.

Issued at Washington, DC, on January 2, 2001.
Carol Anne Kennedy,
Acting Advisory Committee Management Officer.

[FR Doc. 01-421 Filed 1-4-01; 8:45 am]

BILLING CODE 6450-01-P